DEPARTMENT OF TRANSPORTATION

Surface Transportation Board

[STB Ex Parte No. 558 (Sub-No. 4)]

Railroad Cost of Capital—2000

AGENCY: Surface Transportation Board, DOT.

ACTION: Notice of decision instituting a proceeding to determine the railroads' 2000 cost of capital.

SUMMARY: The Board is instituting a proceeding to determine the railroad industry's cost of capital for 2000. The decision solicits comments on: (1) The Railroads' 2000 cost of debt capital; (2) the railroads' 2000 current cost of preferred stock equity capital; (3) the railroads' 2000 cost of common stock equity capital; and (4) the 2000 capital structure mix of the railroad industry on a market value basis.

DATES: Notices of intent to participate are due no later than January 12, 2001. A service list will then be prepared and issued by January 26, 2001. Statements of the railroads are due by March 30, 2001. Statements of other interested persons are due by April 20, 2001. Rebuttal statements by the railroads are due by May 11, 2001.

ADDRESSES: Send an original and 10 copies of statements and a copy of the statement on a 3.5 inch disk in WordPerfect 6.1, and an original and 1 copy of the notice of intent to participate to: Surface Transportation Board, Office of the Secretary, Case Control Branch, 1925 K Street, NW., Washington, DC 20423.

FOR FURTHER INFORMATION CONTACT: Leonard J. Blistein, (202) 565-1529. [TDD for the hearing impaired: (202) 565-1695.]

SUPPLEMENTARY INFORMATION: Additional information is contained in the Board's decision. To obtain a copy of the full decision, write to, call, or pick up in person from: Da-to-Da Office Solutions, Room 405, 1925 K Street, NW., Washington, DC 20423. Telephone: (202) 466-5530. [Assistance for the hearing impaired is available through TDD services 1-800-877-8339] A copy of the decision can also be obtained from the Board's Internet site (www.stb.dot.gov).

We preliminarily conclude that the proposed action will not significantly affect either the quality of the human environment or the conservation of energy resources.

Authority: 49 U.S.C. 10704(a).

Decided: December 12, 2000.
By the Board, Chairman Morgan, Vice Chairman Burkes, and Commissioner Clyburn.
Vernon A. Williams,
Secretary.

[FR Doc. 00-32155 Filed 12-15-00; 8:45 am]

BILLING CODE 4915-00-P